DEPARTMENT OF DEFENSE

Office of the Secretary

Establishment of the Federal Advisory Committee for the End-to-End Review of the U.S. Nuclear Command and Control System (NCCS)

ACTION: Notice of establishment.

SUMMARY: The NCCS End-to-End Review is being established in consonance with the public interest and in accordance with the provisions of Pub. L. 92-463, the “Federal Advisory Committee Act,” Title 5 U.S.C., Appendix 2. This advisory committee will provide advice and recommendations to the Secretary of Defense, in his role and the President's NCCS Executive Agent, regarding the full range of U.S. Nuclear Command and Control System (NCCS) policies, responsibilities, functions, management structures and capabilities to meet National and Departmental/Agency policy and guidance. It will identify opportunities to enhance system effectiveness and efficiency, identify emerging issues for consideration or action, and will recommend cost-effective changes to the system where warranted. The End-to-End Review Federal Advisory Committee will consist of a balanced membership of approximately four senior members from the private sector, appointed by the Secretary of Defense, and two senior members currently serving in governmental positions.

FOR FURTHER INFORMATION CONTACT: Contact William L. Jones, U.S. Nuclear Command and Control System Support Staff, 703-681-8681.

Dated: February 28, 2001.
L. M. Bynum,
Alternate OSD Federal Register Liaison Officer, Department of Defense.

[FR Doc. 01-5388 Filed 3-5-01; 8:45 am]

BILLING CODE 5001-10-M